DEPARTMENT OF DEFENSE

Office of the Secretary

[Docket ID DoD-2009-OS-0007]

Privacy Act of 1974; Systems of Records

AGENCY: Defense Logistics Agency, DoD.

ACTION: Notice to Alter a System of Records.

SUMMARY: The Defense Logistics Agency proposes to alter a system of records notice in its existing inventory of records systems subject to the Privacy Act of 1974 (5 U.S.C. 552a), as amended.

DATES: This proposed action will be effective without further notice on February 23, 2009 unless comments are received which result in a contrary determination.

ADDRESSES: Send comments to the Privacy Act Officer, Headquarters, Defense Logistics Agency, Attn: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The proposed system reports, as required by 5 U.S.C. 552a(r), of the Privacy Act of 1974, as amended, were submitted on January 13, 2009, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 13, 2009.
Morgan E. Frazier,
Alternate OSD Federal Register Liaison Officer, Department of Defense.

S500.20 DLA-I

System name:

Criminal Incidents/Investigations File (February 22, 1993, 58 FR 10854).

Changes:

System identifier:

Delete “DLA-I” from entry.

System name:

Delete entry and replace with “Defense Logistics Agency Criminal Incident Reporting System Records.”

System location:

Delete entry and replace with “Enterprise Data Center East, 8180 Green Meadows Drive, Lewis Center, OH 43035-9605. Records may also be maintained within the DLA Offices that use these records in the performance of their official duties located at Headquarters, Defense Logistics Agency, 8725 John J. Kingman Road, Fort Belvoir, VA 22060-6221 and the DLA Field Activities.”

Categories of individuals covered by the system:

Delete entry and replace with “Civilian and military personnel of DLA, contractor employees, and other persons who have committed or are suspected of having committed, any criminal act (felony or misdemeanor) or any violations of laws, regulations, or ethical standards on DLA controlled activities or facilities; or outside of those areas in cases where DLA is or may be a party of interest. Individuals or companies who purchase or seek to purchase excess or surplus personal property from the Department of Defense (DOD) where that property is either U.S. Mention List or Commerce Control List property.”

Categories of records in the system:

Delete entry and replace with “Individual's name, address and telephone number, Reports of Preliminary Inquiry, Criminal Information Reports, Reports of Referral, Reports of Investigation, Police Incident Reports, Trade Security Controls Assessment Records, Reports of Post Sale Investigation, Crime Vulnerability Assessments, Response to Leads, Reports of Outreach, Reports of Corrective Action, invoices, sales contracts, messages, statements of witnesses, subjects, and victims, photographs, laboratory reports, data collection reports, and other related papers by DLA Investigators, Security Officers, Federal, State, and local law enforcement and investigative agencies.”

Authority for maintenance of the system:

Delete entry and replace with “The Omnibus Crime Control Act of 1994; Section 21, Internal Security Act of 1950 (Pub. L. 831, 81st Congress); DOD Directive 5105.22, Defense Logistics Agency (32 CFR part 359); DOD Directive 5105.42, Defense Security Service (32 CFR part 361); DOD Directive 7730.47, Defense Incident-Based Reporting System; DOD Instruction 2030.8, Trade Security Controls on DOD Excess and Surplus Personal Property; DOD Instruction 5240.4, Reporting of Counterintelligence and Criminal Violations; DOD Instruction 5505.2, Criminal Investigations of Fraud Offenses; 28 U.S.C. 534, Uniform Federal Crime Reporting Act; 18 U.S.C. 922, Brady Handgun Violence Prevention Act of 1994; 42 U.S.C. 10601,Victim Rights and Restitution Act of 1990; 10 U.S.C. 1562, Database on Domestic Violence Incidents; and E.O. 9397 (SSN).”

Purpose(s):

Delete entry and replace with “Information in this system is used by DLA Office of Investigations, DLA Offices of Public Safety, and the DLA Office of General Counsel personnel to monitor progress of cases and to develop non-personal statistical data on crime and criminal investigative support for the future. The DLA General Counsel also uses data to review cases, determine proper legal action, and coordinate on all available remedies. Information is released to DLA managers who use the information to determine actions required to correct the causes of loss and to take appropriate action against DLA employees or contractors in cases of their involvement. Records are also used by DLA to monitor the progress of investigations, identify crime conducive conditions, and prepare crime vulnerability assessments/statistics.”

Routine uses of records maintained in the system, including categories of users and the purposes of such uses:

Delete entry and replace with “In addition to those disclosures generally permitted under 5 U.S.C. 552a(b) of the Privacy Act, these records or information contained therein may specifically be disclosed outside the DOD as a routine use pursuant to 5 U.S.C. 552a(b)(3) as follows:

To Federal, State, and local agencies having jurisdiction over or investigative interest in the substance of the investigation, for corrective action, debarment, or reporting purposes.

To Government contractors employing individuals who are subjects of an investigation.

To DLA contractors or vendors when the investigation pertains to a person they employ or to a product or service they provide to DOD when disclosure is necessary to accomplish or support corrective action.

The DoD ‘Blanket Routine Uses’ also apply to this system of records.”

* * * * *

Storage:

Delete entry and replace with “Paper records and electronic storage media.”

* * * * *

Safeguards:

Delete entry and replace with “Physical entry is restricted by the use of guards, locks, and administrative procedures. Computer terminals are password controlled with system-generated, forced password-change protocols or also equipped with ‘Smart Card’ technology that requires the insertion of an embedded identification card and entry of a personal identification number (PIN). In addition, computer screens lock after a preset period of inactivity with re-entry controlled by passwording. DCIRS is also password controlled. Access to the database is limited to those DLA personnel who require the records in the performance of their official duties. Employees are periodically briefed on their responsibilities regarding privacy information. All individuals granted access to DCIRS is to have taken Information Assurance and Privacy Act training. Records and computerized files are maintained in areas accessible only to the DLA OI, DLA Offices of Public Safety, and the DLA General Counsel personnel.”

Retention and disposal:

Delete entry and replace with “Disposition pending. Until the National Archives and Records Administration has approved the retention and disposal of these records, treat them as permanent.”

System manager(s) and address:

Delete entry and replace with “Staff Director, DLA Office of Investigations, Headquarters, Defense Logistics Agency, 8725 John J. Kingman Road, Stop 2358, Fort Belvoir, VA 22060-6221.”

Notification procedure:

Delete entry and replace with “Individuals seeking to determine whether information about themselves is contained in this system of records should address written inquiries to the Privacy Act Office, Headquarters, Defense Logistics Agency, Attn: DGA, 8725 John J. Kingman Road, Stop 2533, Fort Belvoir, VA 22060-6221.

Individual must provide full name, current address and telephone numbers.”

Record access procedures:

Delete entry and replace with “Individuals seeking access to information about themselves contained in this system of records should address written inquiries to the Privacy Act Office, Headquarters, Defense Logistics Agency, Attn: DGA, 8725 John J. Kingman Road, Stop 2533, Fort Belvoir, VA 22060-6221.

Individual must provide full name, current address and telephone numbers.”

Contesting record procedures:

Delete entry and replace with “The DLA rules for accessing records, for contesting contents and appealing initial agency determinations are contained in 32 CFR part 323, or may be obtained from the Privacy Act Office, Headquarters, Defense Logistics Agency, Attn: DGA, 8725 John J. Kingman Road, Stop 2533, Fort Belvoir, VA 22060-6221.”

Record source categories:

Delete entry and replace with “Reports of Preliminary Inquiry, Criminal Information Reports, Reports of Referral, Reports of Investigation, Police Incident Reports, Trade Security Controls Assessment Records, Reports of Post Sale Investigation, Crime Vulnerability Assessments, Responses to Leads, Reports of Outreach, Reports of Corrective Action, Commander or Director's Reports of Corrective Action, invoices, sales contracts, messages, statements of witnesses, subjects, and victims, photographs, laboratory reports, data collection reports, and other related papers by DLA Investigators, Security Officers, Federal, State, and local law enforcement and investigative agencies.”

Exemptions claimed for the system:

Delete entry and replace with “Parts of this system may be exempt pursuant to 5 U.S.C. 552a(j)(2) if the information is compiled and maintained by a component of the agency that performs as its principle function any activity pertaining to the enforcement of criminal laws.

An exemption rule for this system has been promulgated in accordance with the requirements of 5 U.S.C. 553(b)(1), (2), and (3)(c) and (e) and is published at 32 CFR part 323. For more information contact the system manager.”

* * * * *

S500.20

System name:

Defense Logistics Agency Criminal Incident Reporting System Records.

System location:

Enterprise Data Center East, 8180 Green Meadows Drive, Lewis Center, OH 43035-9605. Records may also be maintained within the DLA Offices that use these records in the performance of their official duties located at Headquarters, Defense Logistics Agency, 8725 John J. Kingman Road, Fort Belvoir, VA 22060-6221 and the DLA Field Activities.

Categories of individuals covered by the system:

Civilian and military personnel of DLA, contractor employees, and other persons who have committed or are suspected of having committed, any criminal act (felony or misdemeanor) or any violations of laws, regulations, or ethical standards on DLA controlled activities or facilities; or outside of those areas in cases where DLA is or may be a party of interest. Individuals or companies who purchase or seek to purchase excess or surplus personal property from the Department of Defense (DOD) where that property is either U.S. Mention List or Commerce Control List property.

Categories of records in the system:

Individual's name, address and telephone number, Reports of Preliminary Inquiry, Criminal Information Reports, Reports of Referral, Reports of Investigation, Police Incident Reports, Trade Security Controls Assessment Records, Reports of Post Sale Investigation, Crime Vulnerability Assessments, Response to Leads, Reports of Outreach, Reports of Corrective Action, Commander or Director's Reports of Corrective Action, invoices, sales contracts, messages, statements of witnesses, subjects, and victims, photographs, laboratory reports, data collection reports, and other related papers by DLA Investigators, Security Officers, Federal, State, and local law enforcement and investigative agencies.

Authority for maintenance of the system:

The Omnibus Crime Control Act of 1994; Section 21, Internal Security Act of 1950 (Pub. L. 831, 81st Congress); DOD Directive 5105.22, Defense Logistics Agency (32 CFR part 359); DOD Directive 5105.42, Defense Security Service (32 CFR part 361); DOD Directive 7730.47, Defense Incident-Based Reporting System; DOD Instruction 2030.8, Trade Security Controls on DOD Excess and Surplus Personal Property; DOD Instruction 5240.4, Reporting of Counterintelligence and Criminal Violations; DOD Instruction 5505.2, Criminal Investigations of Fraud Offenses; 28 U.S.C. 534, Uniform Federal Crime Reporting Act; 18 U.S.C. 922, Brady Handgun Violence Prevention Act of 1994; 42 U.S.C. 10601,Victim Rights and Restitution Act of 1990; 10 U.S.C. 1562, Database on Domestic Violence Incidents; and E.O. 9397 (SSN).

Purpose(s):

Information in this system is used by DLA Office of Investigations, DLA Offices of Public Safety, and the DLA Office of General Counsel personnel to monitor progress of cases and to develop non-personal statistical data on crime and criminal investigative support for the future. DLA General Counsel also uses data to review cases, determine proper legal action, and coordinate on all available remedies. Information is released to DLA managers who use the information to determine actions required to correct the causes of loss and to take appropriate action against DLA employees or contractors in cases of their involvement. Records are also used by DLA to monitor the progress of investigations, identify crime conducive conditions, and prepare crime vulnerability assessments/statistics.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

To Federal, State, and local agencies having jurisdiction over or investigative interest in the substance of the investigation, for corrective action, debarment, or reporting purposes.

To Government contractors employing individuals who are subjects of an investigation.

To DLA contractors or vendors when the investigation pertains to a person they employ or to a product or service they provide to DOD when disclosure is necessary to accomplish or support corrective action.

The DOD “Blanket Routine Uses” also apply to this system of records.

Policies and practices for storing, retrieving, accessing, retaining, and disposing of records in the system:

Storage:

Paper records and electronic storage media.

Retrievability:

Hardcopy records filed chronologically by DLA case number and cross-indexed to individual or file name. Automated records are retrievable by name of the individual or firm, DLA case number, DLA Field Activity number or activity code, or keyword.

Safeguards:

Physical entry is restricted by the use of guards, locks, and administrative procedures. Computer terminals are password controlled with system-generated, forced password-change protocols or also equipped with “Smart Card” technology that requires the insertion of an embedded identification card and entry of a personal identification number (PIN). In addition, computer screens lock after a preset period of inactivity with re-entry controlled by passwording. DCIRS is also password controlled. Access to the database is limited to those DLA personnel who require the records in the performance of their official duties. Employees are periodically briefed on their responsibilities regarding privacy information. All individuals granted access to DCIRS is to have taken Information Assurance and Privacy Act training. Records and computerized files are maintained in areas accessible only to the DLA OI, DLA Offices of Public Safety, and the DLA General Counsel personnel.

Retention and disposal:

Disposition pending. Until the National Archives and Records Administration has approved the retention and disposal of these records, treat them as permanent.

System manager(s) and address:

Staff Director, DLA Office of Investigations, Headquarters, Defense Logistics Agency, 8725 John J. Kingman Road, Stop 2358, Fort Belvoir, VA 22060-6221.

Notification procedure:

Individuals seeking to determine whether information about themselves is contained in this system of records should address written inquiries to the Privacy Act Office, Headquarters, Defense Logistics Agency, Attn: DGA, 8725 John J. Kingman Road, Stop 2533, Fort Belvoir, VA 22060-6221.

Individual must provide full name, current address and telephone numbers.

Record access procedures:

Individuals seeking access to information about themselves contained in this system of records should address written inquiries to the Privacy Act Office, Headquarters, Defense Logistics Agency, Attn: DGA, 8725 John J. Kingman Road, Stop 2533, Fort Belvoir, VA 22060-6221.

Individual must provide full name, current address and telephone numbers.

Contesting record procedures:

The DLA rules for accessing records, for contesting contents, and appealing initial agency determinations are contained in 32 CFR part 323, or may be obtained from the Privacy Act Office, Headquarters, Defense Logistics Agency, Attn: DGA, 8725 John J. Kingman Road, Stop 2533, Fort Belvoir, VA 22060-6221.

Record source categories:

Reports of Preliminary Inquiry, Criminal Information Reports, Reports of Referral, Reports of Investigation, Police Incident Reports, Trade Security Controls Assessment Records, Reports of Post Sale Investigation, Crime Vulnerability Assessments, Response to Leads, Reports of Outreach, Reports of Corrective Action, Commander or Director's Reports of Corrective Action, invoices, sales contracts, messages, statements of witnesses, subjects, and victims, photographs, laboratory reports, data collection reports, and other related papers, by DLA Investigators, Security Officers, Federal, State, and local law enforcement and investigative agencies.

Exemptions claimed for the system:

Parts of this system may be exempt pursuant to 5 U.S.C. 552a(j)(2) if the information is compiled and maintained by a component of the agency that performs as its principle function any activity pertaining to the enforcement of criminal laws.

An exemption rule for this system has been promulgated in accordance with the requirements of 5 U.S.C. 553(b)(1), (2), and (3)(c) and (e) and is published at 32 CFR part 323. For more information contact the system manager.

[FR Doc. E9-1239 Filed 1-21-09; 8:45 am]

BILLING CODE 5001-06-P